DEPARTMENT OF HEALTH AND HUMAN SERVICES

Centers for Disease Control and Prevention

[Program Announcement 04122]

Strategies for the Prevention, Early Detection and Control of Chronic Diseases by State Health Officials; Notice of Intent To Fund Single Eligibility Award

A. Purpose

The Centers for Disease Control and Prevention (CDC) announces the intent to fund fiscal year (FY) 2004 funds for a cooperative agreement program to support The Association of State and Territorial Health Officials (ASTHO) in the development and sustainment of effective public healthy policies and programs to prevent and control chronic diseases, promote healthy behaviors, and strengthen the outreach and capacity of state health agencies. The Catalog of Federal Domestic Assistance number for this program is 93.283.

B. Eligible Applicant

Assistance will be provided only to ASTHO. ASTHO is the only national non-profit organization that represents all state and territorial public health officials. ASTHO was created specifically to represent this group of state agencies to the federal government and other national organizations and is unique in its role as a liaison among these officials. It has served as a capacity-building organization in public health matters for many years and one of its major objectives is the sharing of information among state health departments. Historically, ASTHO has played a vital role in assisting state health departments in the development and implementation of programs and policies to promote health and prevent disease.

C. Funding

Approximately $555,000 is available in FY 2004 to fund this award. It is expected that the award will begin on or before August 1, 2004, and will be made for a 12-month budget period within a project period of up to three years. Funding estimates may change.

D. Where To Obtain Additional Information

For general comments or questions about this announcement, contact: Technical Information Management, CDC Procurement and Grants Office, 2920 Brandywine Road, Atlanta, GA 30341-4146, Telephone: 770-488-2700.

For technical questions about this program, contact: Jennifer Tucker, 4770 Buford Highway, MS K-40, Atlanta, GA 30304, Telephone: 770-488-6454, E-mail: jrt5@cdc.gov.

Dated: June 28, 2004.
Alan Kotch,
Acting Director, Procurement and Grants Office, Centers for Disease Control and Prevention.

[FR Doc. 04-15067 Filed 7-1-04; 8:45 am]

BILLING CODE 4163-18-P